DEPARTMENT OF HEALTH AND HUMAN SERVICES

National Institutes of Health

Center for Scientific Review; Amended Notice of Meeting

Notice is hereby given of a change in the meeting of the Center for Scientific Review Special Emphasis Panel, April 1, 2004, 1:30 p.m. to April 1, 2004, 2:30 p.m., National Institutes of Health, 6701 Rockledge Drive, Bethesda, MD 20892, which was published in the Federal Register on March 15, 2004, 69 FR 12171-12173.

The meeting will be held April 27, 2004, from 2 p.m. to 3 p.m. The meeting location remains the same. The meeting is closed to the public.

Dated: April 22, 2004.
LaVerne Y. Stringfield,
Director, Office of Federal Advisory Committee Policy.

[FR Doc. 04-9674 Filed 4-28-04; 8:45 am]

BILLING CODE 4140-01-M